DEPARTMENT OF HOUSING AND URBAN DEVELOPMENT

[Docket No. FR-5041-N-37]

Notice of Proposed Information Collection: Comment Request; Monthly Report of Excess Income

AGENCY: Office of the Assistant Secretary for Housing—Federal Housing Commissioner, HUD.

ACTION: Notice.

SUMMARY: The proposed information collection requirement described below will be submitted to the Office of Management and Budget (OMB) for review, as required by the Paperwork Reduction Act. The Department is soliciting public comments on the subject proposal.

DATES: Comments Due Date: December 26, 2006.

ADDRESSES: Interested persons are invited to submit comments regarding this proposal. Comments should refer to the proposal by name and/or OMB Control Number and should be sent to: Lillian Deitzer, Reports Management Officer, Department of Housing and Urban Development, 451 7th Street, SW., Room 4178, Washington, DC 20410 or Lillian_Deitzer@hud.gov.

FOR FURTHER INFORMATION CONTACT: Willie Spearmon, Director,Office of Multifamily Housing Assistance and Grant Administration,Department of Housing and Urban Development, 451 7th Street SW., Washington, DC 20410, telephone (202) 708-3000 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Monthly Report of Excess Income.

OMB Control Number, if applicable: 2502-0086.

Description of the need for the information and proposed use Agency form numbers, if applicable: Owners of projects receiving Section 236 rental assistance submit information to participate in retaining some or all of their excess rental charges (Excess Income) for project use or for non-project use, and to request a return of Excess Income remitted to HUD. HUD uses the information to determine that the project is well-maintained housing in good condition and that the owners have carried out their statutory obligations to remit to HUD all Excess Income that HUD has not authorized them to retain.

Agency form numbers, if applicable: HUD-93104.

Estimation of the total numbers of hours needed to prepare the information collection including number of respondents, frequency of response, and hours of response. The estimated total annual hours required to prepare the information collection is 41,100; the number of respondents is 3,000 generating 41,100 annual responses; the frequency of response is monthly or annually; and the estimated time needed to prepare the response varies from five to thirty minutes.

Status of the proposed information collection: This is an extension of a currently approved collection.

Authority: The Paperwork Reduction Act of 1995, 44 U.S.C., Chapter 35, as amended.

Dated: October 18, 2006.
Frank L. Davis,
General Deputy Assistant Secretary for Housing—Federal Housing Commissioner.

[FR Doc. E6-17814 Filed 10-24-06; 8:45 am]

BILLING CODE 4210-67-P